DEPARTMENT OF TRANSPORTATION

Federal Aviation Administration

14 CFR Part 39

[Docket No. FAA-2014-1043; Directorate Identifier 2013-NM-079-AD; Amendment 39-18321; AD 2015-23-05]

RIN 2120-AA64

Airworthiness Directives; Airbus Airplanes

AGENCY: Federal Aviation Administration (FAA), Department of Transportation (DOT).

ACTION: Final rule.

SUMMARY: We are adopting a new airworthiness directive (AD) for all Airbus Model A330-200, A330-200 Freighter, and A330-300 series airplanes; and Model A340-200 and A340-300 series airplanes. This AD was prompted by reports of cracked support strut body ends at a certain frame location of the trimmable horizontal stabilizer (THS). This AD requires repetitive inspections for cracking of the strut ends of the THS support located at a certain frame in the tail cone, and replacement if necessary; and reinstallation or installation of reinforcing clamps on certain strut ends. We are issuing this AD to detect and correct cracked support strut body ends of the THS, which could lead to the loss of all four THS support struts, making the remaining structure unable to carry limit loads, resulting in the loss of the horizontal tail plane.

DATES: This AD becomes effective December 28, 2015.

The Director of the Federal Register approved the incorporation by reference of certain publications listed in this AD as of December 28, 2015.

ADDRESSES: You may examine the AD docket on the Internet at http://www.regulations.gov/#!docketDetail;D=FAA-2014-1043 or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-1043.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to all Airbus Model A330-200, A330-200 Freighter, and A330-300 series airplanes; and Model A340-200 and A340-300 series airplanes. The NPRM published in the Federal Register on January 23, 2015 (80 FR 3510). The NPRM was prompted by reports of cracked support strut body ends at a certain frame location of the THS. The NPRM proposed to require repetitive inspections for cracking of the strut ends of the THS support located at a certain frame in the tail cone, and replacement if necessary; and reinstallation or installation of reinforcing clamps on certain strut ends. We are issuing this AD to detect and correct cracked support strut body ends of the THS, which could lead to the loss of all four THS support struts, making the remaining structure unable to carry limit loads, resulting in the loss of the horizontal tail plane.

The European Aviation Safety Agency (EASA), which is the Technical Agent for the Member States of the European Union, has issued EASA Airworthiness Directive 2014-0068, dated March 18, 2014 (referred to after this as the Mandatory Continuing Airworthiness Information, or “the MCAI”), to correct an unsafe condition for all Airbus Model A330-200, A330-200 Freighter, and A330-300 series airplanes; and Model A340-200 and A340-300 series airplanes. The MCAI states:

During scheduled maintenance on A330 aeroplanes, several Trimmable Horizontal Stabilizer (THS) support struts at frame (FR) 91 were found cracked at strut body ends.

The THS is supported and articulated at FR 91 by four struts to fix the hinges (Y-bolts) and keep the structural integrity in lateral direction.

Analysis revealed that cracks can reduce ability of the support struts to carry specified tension loads.

This condition, if not detected and corrected, could lead to the loss of all four THS support struts at FR91, which would make the remaining structure unable to carry limit loads, resulting in the loss of Horizontal Tail Plane.

A340-500/600 aeroplanes are not affected by this [EASA] AD as different material is used on THS support struts.

To address this potentially unsafe condition, EASA issued AD 2013-0076 [http://ad.easa.europa.eu/blob/easa_ad_2013_0076_superseded.pdf/AD_2013-0076_1] to require repetitive special detailed inspections [high frequency eddy current (HFEC) inspections for cracking] of all 8 strut ends of the THS support located at FR91 in the tail cone and, depending on findings, replacement of THS support struts. That [EASA] AD also required, for aeroplanes on which Airbus Modification 203493 had not been embodied in production, or Airbus Service Bulletin (SB) A330-53-3204 or SB A340-53-4199, as applicable, has not been embodied in service, the installation of a clamping device on each support strut end to stop growth of possible cracks (crack stopper function) in order to secure integrity of the struts.

Since issuance of EASA AD 2013-0076 [http://ad.easa.europa.eu/blob/easa_ad_2013_0076_superseded.pdf/AD_2013-0076_1], it has been discovered that several aeroplanes are fitted with another strut configuration (SARMA Strut) [Societé Anonyme de Recherche Mécanique Appliquée] than the TAC (Technical Airborne Components Industries) strut, which caused the other strut not to be considered. Consequently, Airbus revised Airbus SB A330-53-3206 and SB A340-53-4208, accordingly in order to add a one-time [HFEC] inspection [for cracking] for SARMA struts and in case of finding to replace it with a TAC strut and thereafter to accomplish repetitive inspections and EASA issued AD 2013-0219 [http://ad.easa.europa.eu/blob/easa_ad_2013_0219_superseded.pdf/AD_2013-0219_1], which is superseded, and required accomplishment of the instructions as specified in the latest revision of each SB, as applicable.

Since issuance of EASA AD 2013-0219 [http://ad.easa.europa.eu/blob/easa_ad_2013_0219_superseded.pdf/AD_2013-0219_1], based on the reporting received from operators, it has been determined that repetitive inspections are also to be accomplished for aeroplanes equipped with SARMA strut. Airbus introduced that inspection in the applicable SB at revision 3.

For the reasons described above, this [EASA] AD retains the requirements of EASA AD 2013-0219, which is superseded, and requires accomplishment of repetitive [HFEC] inspective inspection [for cracking] for aeroplanes equipped with SARMA strut.

This [EASA] AD is considered as an interim action, pending the development of a terminating action.

You may examine the MCAI in the AD docket on the Internet at http://www.regulations.gov/#!documentDetail;D=FAA-2014-1043-0002.

Comments

We gave the public the opportunity to participate in developing this AD. The following presents the comments received on the NPRM (80 FR 3510, January 23, 2015) and the FAA's response to each comment.

Request To Add Inspection for Identifying Struts

Delta Air Lines, Inc. (DAL) requested that we add a physical inspection to paragraph (g) of the proposed AD (80 FR 3510, January 23, 2015) to distinguish a Societé Anonyme de Recherche Mécanique Appliquée (SARMA) strut from a Technical Airborne Components Industries (TAC) strut. DAL stated that paragraph (g) of the proposed AD only identifies the dimensional diameter of SARMA struts; however, DAL stated that both TAC and SARMA struts have the same manufacturer part numbers but have different rod end diameters. DAL suggested language for doing a physical inspection of the strut end of each support strut for identification purposes.

We agree that a physical inspection is necessary to determine the rod end diameter in order to distinguish between SARMA and TAC struts. However, that inspection is optional. Paragraph (g) of this AD defines SARMA struts as having a diameter that is less than 43 millimeters, and states that all other struts are TAC struts. Paragraph (h) of this AD requires inspecting TAC struts. Thus, operators must inspect all struts unless the strut is inspected to determine the diameter is less than 43 millimeters, i.e., it is a SARMA strut. We have not changed this AD in this regard.

Request To Include Airbus Modification 203834 for Installing Reinforced Clamps

DAL requested that we revise paragraph (h) of the proposed AD (80 FR 3510, January 23, 2015) to include Airbus Modification 203834 as an optional modification for installation of the reinforced clamps. DAL stated that Airbus has confirmed that Airbus Modification 203834 installs the same reinforced clamps as Airbus Modification 203493 specified in paragraph (h) of the proposed AD.

We agree with the commenter's request. The FAA has approved two Airbus modifications for installing the reinforced clamps into production airplanes: Modification 203493 for airplanes having manufacturer serial number (MSN) 1466 to 1509 inclusive, and Modification 203834 for airplanes having MSN 1510 and on. Modification 203834 supersedes Modification 203493, and the first airplane delivered with Modification 203834 installed was MSN 1511.

Thus, operators may have the two populations of airplanes: Those with Modification 203834 and those with Modification 203493. This AD must address both groups of airplanes accordingly. We have revised paragraph (h) of this AD to specify that, for airplanes on which Airbus Modification 203493 or 203834 has been embodied in production; or on which Airbus Service Bulletin A330-53-3204 or Airbus Service Bulletin A340 53-4199, as applicable; has been embodied in service, remove the clamp from each strut end before accomplishing the inspections required by paragraph (h) of this AD.

Request To Include Additional Service Information

DAL requested that we revise paragraphs (j)(1), (j)(2), and (l) of the proposed AD (80 FR 3510, January 23, 2015) to include Airbus Service Bulletin A330-53-3204. DAL stated that, when clamps were not previously installed, Airbus Service Bulletin A330-53-3204 becomes the source document for installing the clamps.

We agree that Airbus Service Bulletin A330-53-3204, Revision 03, dated February 28, 2014, is an appropriate source of service information for installing clamps. However, we do not agree to revise this AD because that service information is already referenced in Airbus Service Bulletin A330-53-3206, Revision 03, dated February 28, 2014, which is referred to as one of the appropriate sources of service information for the actions required by paragraphs (j)(1), (j)(2), and (l) of this AD. As specified in the Accomplishment Instructions of Airbus Service Bulletin A330-53-3206, Revision 03, dated February 28, 2014., “if no clamps were previously installed, accomplish Service Bulletin A330-53-3204 before next flight, to install them.” Therefore, no change to this AD is necessary in this regard.

Request To Clarify Flight With Cracking

DAL requested that we clarify/confirm that the NPRM (80 FR 3510, January 23, 2015) will apply more strict replacement criteria when cracks are found than what is currently published in Airbus Service Bulletin A330-53-3206, Revision 03, dated February 28, 2014. DAL stated that Subtask 533206-280-201-001 of Airbus Service Bulletin A330-53-3206, Revision 03, dated February 28, 2014, contains instructions to allow continued operation of the airplane with small crack findings without immediate strut replacement.

We agree. In the “Differences Between this Proposed AD and the MCAI or Service Information” section of the NPRM (80 FR 3510, January 23, 2015), we stated that “Although EASA Airworthiness Directive 2014-0068, dated March 18, 2014, Airbus Service Bulletin A330-53-3206, Revision 03, dated February 28, 2014, and Airbus Service Bulletin A340-53-4208, Revision 03, dated February 28, 2014, allow further flight after certain cracks are found during compliance with the proposed action, paragraph (j)(2) of this AD would require that any cracked THS support strut be replaced with a new or serviceable TAC strut before further flight.” No change to this AD is necessary in this regard.

Conclusion

We reviewed the relevant data, considered the comments received, and determined that air safety and the public interest require adopting this AD with the changes described previously and minor editorial changes. We have determined that these minor changes:

• Are consistent with the intent that was proposed in the NPRM (80 FR 3510, January 23, 2015) for correcting the unsafe condition; and

• Do not add any additional burden upon the public than was already proposed in the NPRM (80 FR 3510, January 23, 2015).

We also determined that these changes will not increase the economic burden on any operator or increase the scope of this AD.

Interim Action

We consider this AD interim action. If final action is later identified, we might consider further rulemaking then.

Related Service Information Under 1 CFR Part 51

We reviewed the following service information.

• Airbus Service Bulletin A330-53-3206, Revision 03, dated February 28, 2014. This service information describes procedures for inspections for cracking of the strut ends of the THS support located in the airplane tail cone.

• Airbus Service Bulletin A340-53-4208, Revision 03, dated February 28, 2014. This service information describes procedures for inspections for cracking of the strut ends of the THS support located in the airplane tail cone.

This service information is reasonably available because the interested parties have access to it through their normal course of business or by the means identified in the ADDRESSES section of this AD.

Costs of Compliance

We estimate that this AD affects 84 airplanes of U.S. registry.

We also estimate that it will take about 9 work-hours per product to comply with the basic requirements of this AD. The average labor rate is $85 per work-hour. Based on these figures, we estimate the cost of this AD on U.S. operators to be $64,260, or $765 per product.

We have received no definitive data that would enable us to provide cost estimates for the on-condition replacement specified in this AD.

We estimate that any necessary follow-on strut reinforcements will take about 2 work-hours and require parts costing $5,680, for a cost of $5,850 per product. We have no way of determining the number of aircraft that might need this action.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-1043; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-23-05 Airbus: Amendment 39-18321. Docket No. FAA-2014-1043; Directorate Identifier 2013-NM-079-AD.

(a) Effective Date

This AD becomes effective December 28, 2015.

(b) Affected ADs

None.

(c) Applicability

This AD applies to the airplanes identified in paragraphs (c)(1), (c)(2), and (c)(3) of this AD, certificated in any category, all manufacturer serial numbers.

(1) Airbus Model A330-201, -202, -203, -223, -223F, -243, and -243F airplanes.

(2) Airbus Model A330-301, -302, -303, -321, -322, -323, -341, -342, and -343 airplanes.

(3) Airbus Model A340-211, -212, -213, -311, -312, and -313 airplanes.

(d) Subject

Air Transport Association (ATA) of America Code 53, Fuselage.

(e) Reason

This AD was prompted by reports of cracked support strut body ends at a certain frame location of the trimmable horizontal stabilizer (THS). We are issuing this AD to detect and correct cracked support strut body ends of the THS, which could lead to the loss of all four THS support struts and which would make the remaining structure unable to carry limit loads, resulting in the loss of the horizontal tail plane.

(f) Compliance

Comply with this AD within the compliance times specified, unless already done.

(g) Definition of Strut Types

For the purpose of this AD, a Societé Anonyme de Recherche Mécanique Appliquée (SARMA) strut is a strut on which the diameter of the strut end is less than 43 millimeters. All other struts are Technical Airborne Components Industries (TAC) struts.

(h) Repetitive Inspections of TAC Strut Ends

At the applicable time specified in paragraph (i) of this AD, do a high frequency eddy current (HFEC) inspection for cracking of all TAC strut ends of the THS support located at frame (FR) 91 in the tail cone, in accordance with the Accomplishment Instructions of Airbus Service Bulletin A330-53-3206, Revision 03, dated February 28, 2014; or Airbus Service Bulletin A340-53-4208, Revision 03, dated February 28, 2014; as applicable. Repeat the inspection thereafter at intervals not to exceed 42 months or 20,000 flight hours, whichever occurs first. For airplanes on which Airbus Modification 203493 or 203834 has been embodied in production, or Airbus Service Bulletin A330-53-3204 or Airbus Service Bulletin A340-53-4199, as applicable, has been embodied in service, remove the clamp from each strut end before accomplishing the inspections required by this paragraph.

(i) Compliance Times for the Actions Required by Paragraphs (h) and (k) of This AD

Do the inspections required by paragraphs (h) and (k) of this AD at the applicable times specified in paragraphs (i)(1), (i)(2), and (i)(3) of this AD.

(1) For Model A330 series airplanes having manufacturer serial numbers 012 through 209 inclusive, and Model A340 series airplanes having manufacturer serial numbers 002 through 210 inclusive: Within 6 months after the effective date of this AD.

(2) For Model A330 series airplanes having manufacturer serial numbers 211 through 422 inclusive, and Model A340 series airplanes having manufacturer serial numbers 212 through 447 inclusive: Within 24 months after the effective date of this AD.

(3) For Model A330 series airplanes having manufacturer serial numbers 423 and subsequent, and Model A340 series airplanes having manufacturer serial numbers 450 through 955 inclusive: Within 36 months after the effective date of this AD or since the first flight of the airplane, whichever occurs later.

(j) Corrective Action for TAC Strut Ends and Installation of Reinforcing Clamps

(1) If, during any inspection required by paragraph (h) of this AD, no cracks are found: Before further flight, reinstall or install, as applicable, reinforcing clamps on the strut ends, in accordance with the Accomplishment Instructions of Airbus Service Bulletin A330-53-3206, Revision 03, dated February 28, 2014; or Airbus Service Bulletin A340-53-4208, Revision 03, dated February 28, 2014; as applicable.

(2) If, during any inspection required by paragraph (h) of this AD, any crack is found: Before further flight, replace any affected strut with a new or serviceable TAC strut and install reinforcing clamps on the strut end, in accordance with the Accomplishment Instructions of Airbus Service Bulletin A330-53-3206, Revision 03, dated February 28, 2014; or Airbus Service Bulletin A340-53-4208, Revision 03, dated February 28, 2014; as applicable.

(k) Repetitive Inspections of SARMA Strut Ends

At the applicable time specified in paragraph (i) of this AD, do an HFEC inspection for cracking of all SARMA strut ends of the THS support located at FR 91 in the tail cone, in accordance with the Accomplishment Instructions of Airbus Service Bulletin A330-53-3206, Revision 03, dated February 28, 2014; or Airbus Service Bulletin A340-53-4208, Revision 03, dated February 28, 2014; as applicable. Repeat the inspection thereafter at intervals not to exceed 12 months.

(l) Corrective Action for SARMA Strut Ends

If any crack is found on a strut end during the inspection required by paragraph (k) of this AD: Before further flight, replace any affected SARMA strut with a new or serviceable TAC strut and install reinforcing clamps on the strut end, in accordance with the Accomplishment Instructions of Airbus Service Bulletin A330-53-3206, Revision 03, dated February 28, 2014; or Airbus Service Bulletin A340-53-4208, Revision 03, dated February 28, 2014; as applicable.

(m) No Terminating Action

Replacement of THS struts on an airplane does not constitute terminating action for the repetitive inspections required by this AD.

(n) No Reporting

Although Airbus Service Bulletin A330-53-3206, Revision 03, dated February 28, 2014; and Airbus Service Bulletin A340-53-4208, Revision 03, dated February 28, 2014; specify to submit certain information to the manufacturer, this AD does not include that requirement.

(o) Credit for Previous Actions

This paragraph provides credit for actions required by paragraphs (g), (h), (j), and (k) of this AD, if those actions were performed before the effective date of this AD using any of the service information identified in paragraphs (n)(1) through (n)(6) of this AD. This service information is not incorporated by reference in this AD.

(1) Airbus Service Bulletin A330-53-3206, dated February 7, 2013.

(2) Airbus Service Bulletin A330-53-3206, Revision 01, dated June 10, 2013.

(3) Airbus Service Bulletin A330-53-3206, Revision 02, dated August 8, 2013.

(4) Airbus Service Bulletin A340-53-4208, dated February 7, 2013.

(5) Airbus Service Bulletin A340-53-4208, Revision 01, dated June 10, 2013.

(6) Airbus Service Bulletin A340-53-4208, Revision 02, dated August 8, 2013.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(q) Related Information

(1) Refer to Mandatory Continuing Airworthiness Information (MCAI) EASA Airworthiness Directive 2014-0068, dated March 18, 2014, for related information. This MCAI may be found in the AD docket on the Internet at http://www.regulations.gov/#!documentDetail;D=FAA-2014-1043-0002.

(2) Service information identified in this AD that is not incorporated by reference is available at the addresses specified in paragraphs (r)(3) and (r)(4) of this AD.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-53-3206, Revision 03, dated February 28, 2014.

(ii) Airbus Service Bulletin A340-53-4208, Revision 03, dated February 28, 2014.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 30, 2015.
Michael Kaszycki,
Acting Manager, Transport Airplane Directorate, Aircraft Certification Service.

[FR Doc. 2015-28895 Filed 11-19-15; 8:45 am]

BILLING CODE 4910-13-P